DEPARTMENT OF COMMERCE

International Trade Administration

Overseas Trade Missions

AGENCY: International Trade Administration, Department of Commerce.

ACTION: Notice.

SUMMARY: The Department of Commerce invites U.S. companies to participate in the below listed overseas trade missions. For a more complete description, obtain a copy of the mission statement from the contact officer indicated for each individual mission below.

Environmental Technologies Trade Mission

Malaysia, Thailand, Vietnam, March 29-April 6, 2004, Recruitment closes February 6, 2004.

For Further Information Contact: Yvonne Jackson, Project Manager, Export Promotion Services; U.S. Commercial Service, U.S. Department of Commerce, Room 2119, Washington, DC 20230, Tel: (202) 482-2675; Fax: (202) 482-2718; e-mail: yvonne.jackson@mail.doc.gov.

Wake Margo, Project Manager, Export Promotion Services; U.S. Commercial Service, U.S. Department of Commerce, Room 2119, Washington, DC 20230,Tel: (202) 482-2026; Fax: (202) 482-0973; e-mail: wake.margo@mail.doc.gov.

Aerospace Executive Service Program

Asian Aerospace, Singapore, February 23-24, 2004, Recruitment closes January 10, 2004.

For Further Information Contact: Amy Magat, ITA Aerospace & Defense Technology Team; Downtown Los Angeles USEAC, 350 S. Figueroa St., Suite 509; Los Angeles, CA 90071, Tel: (213) 894-3966; Fax: (213) 894-8789; e-mail: Amy.Magat@mail.doc.gov.

Hawcheng Ng, American Embassy; 27 Napier Road; Singapore 258508, Tel. 011-(65) 6476-903; Fax 011-(65) 6476-9080, e-mail: Hawcheng.Ng@mail.doc.gov.

U.S. Microelectronics Trade Mission

Shanghai and Suzhou, China, March 15-19, 2004, Recruitment closes January 31, 2004.

For Further Information Contact: Ms. Marlene Ruffin, Microelectronics Industry Sector, ITA/ITI/TD/OMMI, Room 1015, U.S. Department of Commerce, Washington, DC 20230, Tel: (202) 482-0570; Fax: (202) 482-0975; e-mail: marlene_ruffin@ita.doc.gov.

Recruitment and selection of private sector participants for these trade missions will be conducted according to the Statement of Policy Governing Department of Commerce Overseas Trade Missions dated March 3, 1997.

For Further Information Contact: Mr. John Klingelhut, U.S. Department of Commerce, telephone (202) 482-4403 or e-mail: John.Klingelhut@mail.doc.gov.

Dated: October 24, 2003.
John Klingelhut,
Senior Advisor, Export Promotion Services.

[FR Doc. 03-27325 Filed 10-29-03; 8:45 am]

BILLING CODE 3510-DR-P